DEPARTMENT OF JUSTICE

Notice of Lodging of Consent Decrees Under the Comprehensive Environmental Response, Compensation, and Liability Act

Notice is hereby given that on April 5, 2000, two proposed consent decrees in United States v. Greenwood Chemical Company, Civ. Action No. 97-0147 (W.D. Va.), were lodged with the United States District Court for the Western District of Virginia.

In this action, the United States is recovering past and future response costs, pursuant to the Comprehensive Environmental Response, Compensation, and Liability Act (“CERCLA”), 42 U.S.C. 9601 et seq. in connection with the Greenwood Chemical Company Superfund (“Site”), located in Albemarle County, Virginia.

The consent decrees that were lodged would resolve the United States' claims against two of the four defendants. The first defendant, Albert Cereghino, will pay $90,000 to the United States and $10,000 to the Commonwealth of Virginia to resolve claims against it. The second defendant, Greenwood Chemical Company, will pay $1,000 to the United States and also will agree that the United States' lien on the Site shall remain in effect after the settlement.

The consent decrees include covenants not to sue by the United States under sections 106 and 107 of CERCLA, and under section 7003 of the Resource Conservation and Recovery Act (“RCRA”), 42 U.S.C. 6973.

The Department of Justice will receive for a period of thirty (30) days from the date of this publication comments relating to the proposed consent decrees. Comments should be addressed to the Assistant Attorney General of the Environment and Natural Resources Division, P.O. Box 7611, U.S. Department of Justice, Washington, DC 20044, and should refer to United States v. Greenwood Chemical Company , D.J. Ref. 90-11-679. Comments may request an opportunity for a public hearing in the affected area, in accordance with Section 7003(d) of RCRA.

The proposed consent decrees may be examined at the Office of the United States Attorney, Thomas B. Mason Building, 105 Franklin Rd., SW, Suite One, Roanoke, VA 24011 and at U.S. EPA Region III, 1650 Arch Street, Philadelphia, Pennsylvania 19103-2029. A copy of the consent decrees may also be obtained by mail from the Consent Decree Library, P.O. Box 7611, U.S. Department of Justice, Washington, DC 20044-7611. In requesting a copy, please enclose a check in the amount of $13.25 (25 cents per page reproduction cost) payable to the Consent Decree Library.

Joel M. Gross,
Chief, Environmental Enforcement Section, Environment and Natural Resources Division.

[FR Doc. 00-9160 Filed 4-12-00; 8:45 am]

BILLING CODE 4410-15-M